SURFACE TRANSPORTATION BOARD

[Docket No. FD 36777]

First Coast Railroad Inc.—Lease and Operation Exemption—CSX Transportation, Inc.

First Coast Railroad Inc. (FCRD), a Class III railroad, has filed a verified notice of exemption pursuant to 49 CFR 1150.41 to enter into an amendment to extend the term of, and to make other minor changes to, a lease with CSX Transportation, Inc. (CSXT), for a line of railroad extending from Yulee, Fla., at milepost S 611.95, to the end of track at Seals, Ga., milepost S 593.4, on the Kingsland Subdivision; and from Yulee, milepost SMA 35.1, to the end of track at Fernandina, Fla., milepost SMA 48.38, on the Fernandina Subdivision, a distance of approximately 31.83 miles (the Line).

According to the verified notice, FCRD entered into an agreement to lease from CSXT and operate the Line in 2005. First Coast R.R.—Lease & Operation Exemption—CSX Transp., Inc., FD 34670 (STB served Apr. 25, 2005). FCRD and CSXT have now agreed to amend the agreement, extending it through April 30, 2029. According to the verified notice, FCRD is currently operating the Line and will continue to do so after the lease amendment becomes effective. FCRD certifies that the amended lease does not include an interchange commitment.

FCRD certifies that its projected annual revenues as a result of this transaction will not exceed those that would qualify it as a Class III rail carrier and that its annual revenues currently exceed $5,000,000. Pursuant to 49 CFR 1150.42(e), if a carrier's projected annual revenues will exceed $5 million, it must, at least 60 days before the exemption becomes effective, post a notice of its intent to undertake the proposed transaction at the workplace of the employees on the affected lines, serve a copy of the notice on the national offices of the labor unions with employees on the affected lines, and certify to the Board that it has done so. However, FCRD has requested waiver of the 60-day advance labor notice requirement. FCRD's waiver request will be addressed in a separate decision. The Board will establish the effective date of the exemption in its separate decision on the waiver request.

If the verified notice contains false or misleading information, the exemption is void ab initio. Petitions to revoke the exemption under 49 U.S.C. 10502(d) may be filed at any time. The filing of a petition to revoke will not automatically stay the effectiveness of the exemption. Petitions for stay must be filed no later than November 15, 2024.

All pleadings, referring to Docket No. FD 36777, must be filed with the Surface Transportation Board either via e-filing on the Board's website or in writing addressed to 395 E Street SW, Washington, DC 20423-0001. In addition, one copy of each pleading must be served on FCRD's representative, Eric M. Hocky, Clark Hill PLC, Two Commerce Square, 2001 Market St., Suite 2620, Philadelphia, PA 19103.

According to FCRD, this action is categorically excluded from environmental review under 49 CFR 1105.6(c) and from historic reporting requirements under 49 CFR 1105.8(b).

Board decisions and notices are available at www.stb.gov.

Decided: November 5, 2024.
By the Board, Scott M. Zimmerman, Acting Director, Office of Proceedings.
Regena Smith-Bernard,
Clearance Clerk.

[FR Doc. 2024-26070 Filed 11-7-24; 8:45 am]

BILLING CODE 4915-01-P